DEPARTMENT OF AGRICULTURE

Rural Business-Cooperative Service

Inviting Applications for Rural Business Opportunity Grants

AGENCY: Rural Business-Cooperative Service, USDA.

ACTION: Notice.

SUMMARY: The Rural Business-Cooperative Service (RBS), an Agency within the Rural Development mission area, announces the availability of grants of up to $50,000 per application from the Rural Business Opportunity Grant (RBOG) program for fiscal year (FY) 2006, to be competitively awarded. For multi-State projects, grant funds of up to $150,000 will be available on a competitive basis.

DATES: The deadline for the receipt of applications in the Rural Development State Office is May 26, 2006. Any applications received at a Rural Development State Office after that date would not be considered for FY 2006 funding.

ADDRESSES: For further information, entities wishing to apply for assistance should contact a Rural Development State Office to receive copies of the application package. Potential applicants located in the District of Columbia must send their applications to the National Office at:

District of Columbia

Rural Business-Cooperative Service, USDA, Specialty Lenders Division, 1400 Independence Avenue, SW., Room 6867, STOP 3225, Washington, DC 20250-3225. (202) 720-1400.

A list of Rural Development State Offices follows:

Alabama

USDA Rural Development State Office, Sterling Centre, Suite 601, 4121 Carmichael Road, Montgomery, AL 36106-3683. (334) 279-3400/TTD (334) 279-3495.

Alaska

USDA Rural Development State Office, 800 West Evergreen, Suite 201, Palmer, AK 99645-6539. (907) 761-7705/TDD (907) 761-8905.

Arizona

USDA Rural Development State Office, 230 N. First Avenue, Suite 206, Phoenix, AZ 85003-1706. (602) 280-8700/TTD (602) 280-8705.

Arkansas

USDA Rural Development State Office, 700 West Capitol Avenue, Room 3416, Little Rock, AR 72201-3225. (501) 301-3200/TTD (501) 301-3279.

California

USDA Rural Development State Office, 430 G Street, Agency 4169, Davis, CA 95616-4169. (530) 792-5800/TTD (530) 792-5848.

Colorado

USDA Rural Development State Office, 655 Parfet Street, Room E-100, Lakewood, CO 80215. (720) 544-2903/TDD (720) 544-2976.

Delaware-Maryland

USDA Rural Development State Office, 1221 College Park Drive, Suite 200, Dover, DE 19904. (302) 857-3580/TDD (302) 857-3585.

Florida/Virgin Islands

USDA Rural Development State Office, 4440 NW 25th Place, P.O. Box 147010, Gainesville, FL 32614-7010. (352) 338-3402/TDD (352) 338-3499.

Georgia

USDA Rural Development State Office, Stephens Federal Building, 355 E. Hancock Avenue, >Athens, GA 30601-2768. (706) 546-2162/TDD (706) 546-2034.

Hawaii

USDA Rural Development State Office, Federal Building, Room 311, 154 Waianuenue Avenue, Hilo, HI 96720. (808) 933-8380/TDD (808) 933-8321.

Idaho

USDA Rural Development State Office, 9173 West Barnes Drive, Suite A1, Boise, ID 83709. (208) 378-5600/TDD (208) 378-5644.

Illinois

USDA Rural Development State Office, 2118 West Park Court, Suite A, Champaign, IL 61821. (217) 403-6200/TDD (217) 403-6240.

Indiana

USDA Rural Development State Office, 5975 Lakeside Boulevard, Indianapolis, IN 46278. (317) 290-3100/TDD (317) 290-3340.

Iowa

USDA Rural Development State Office, Federal Building, Room 873, 210 Walnut Street, Des Moines, IA 50309-2196. (515) 284-4663/TDD (515) 284-4858.

Kansas

USDA Rural Development State Office, 1303 SW First American Place, Suite 100, Topeka, KS 66604-4040. (785) 271-2700/TDD (785) 271-2767.

Kentucky

USDA Rural Development State Office, 771 Corporate Drive, Suite 200, Lexington, KY 40503-5477. (859) 224-7300/TDD (859) 224-7422.

Louisiana

USDA Rural Development State Office, 3727 Government Street, Alexandria, LA 71302. (318) 473-7920/TDD (318) 473-7655.

Maine

USDA Rural Development State Office, 967 Illinois Avenue, Suite 4, P.O. Box 405, Bangor, ME 04402-0405. (207) 990-9160/TTD (207) 942-7331.

Massachusetts/Rhode Island/Connecticut

USDA Rural Development State Office,

451 West Street, Suite 2, Amherst, MA 01002-2999. (413) 253-4300/TDD (413) 253-4318.

Michigan

USDA Rural Development State Office, 3001 Coolidge Road, Suite 200, East Lansing, MI 48823. (517) 324-5100/TDD (517) 337-6795.

Minnesota

USDA Rural Development State Office, 1408 21st Avenue, Suite 3, Austin, MN 55912. (651) 602-7800/TDD (651) 602-3799.

Mississippi

USDA Rural Development State Office, Federal Building, Suite 831, 100 West Capitol Street, Jackson, MS 39269. (601) 965-4316/TDD (601) 965-5850.

Missouri

USDA Rural Development State Office, 601 Business Loop 70 West, Parkade Center, Suite 235, Columbia, MO 65203. (573) 876-0976/TDD (573) 876-9480.

Montana

USDA Rural Development State Office, 900 Technology Blvd., Unit 1, Suite B, P.O. Box 850, Bozeman, MT 59771. (406) 585-2580/TDD (406) 585-2562.

Nebraska

USDA Rural Development State Office, Federal Building, Room 152, 100 Centennial Mall North, Lincoln, NE 68508. (402) 437-5551/TDD (402) 437-5093.

Nevada

USDA Rural Development State Office, 1390 South Curry Street, Carson City, NV 89703-9910. >(775) 887-1222/TDD (775) 885-0841.

New Jersey

USDA Rural Development State Office, 5th Floor North, Suite 500, 8000 Midlantic Drive, Mt. Laurel, NJ 08054. (856) 787-7700/TDD (856) 787-7784.

New Mexico

USDA Rural Development State Office, 6200 Jefferson Street NE, Room 255, Albuquerque, NM 87109. (505) 761-4950/TDD (505) 761-4938.

New York

USDA Rural Development State Office, The Galleries of Syracuse, 441 South Salina Street, Suite 357, Syracuse, NY 13202-2541. (315) 477-6400/TDD (315) 477-6447.

North Carolina

USDA Rural Development State Office, 4405 Bland Road, Suite 260, Raleigh, NC 27609. (919) 873-2000/TDD (919) 873-2003.

North Dakota

USDA Rural Development State Office, Federal Building, Room 208, 220 East Rosser, P. O. Box 1737, Bismarck, ND 58502-1737. (701) 530-2037/TDD (701) 530-2113.

Ohio

USDA Rural Development State Office, Federal Building, Room 507, 200 North High Street, Columbus, OH 43215-2418. (614) 255-2400/TDD (614) 255-2554.

Oklahoma

USDA Rural Development State Office, 100 USDA, Suite 108, Stillwater, OK 74074-2654. (405) 742-1000/TDD (405) 742-1007.

Oregon

USDA Rural Development State Office, 1229 SE Third Street, Suite A, Pendleton, OR 97801-4198. (503) 414-3300/TDD (503) 414-3387.

Pennsylvania

USDA Rural Development State Office, One Credit Union Place, Suite 330, Harrisburg, PA 17110-2996. (717) 237-2299/TDD (717) 237-2261.

Puerto Rico

USDA Rural Development State Office, 654 Munoz Rivera Avenue, IBM Building, Suite 601, San Juan, Puerto Rico 00918-6106. (787) 766-5095/TDD (787) 766-5332.

South Carolina

USDA Rural Development State Office, Strom Thurmond Federal Building, 1835 Assembly Street, Room 1007, Columbia, SC 29201. (803) 765-5163/TDD (803) 765-5697.

South Dakota

USDA Rural Development State Office, Federal Building, Room 210, 200 4th Street, SW., Huron, SD 57350. (605) 352-1100/TDD (605) 352-1147.

Tennessee

USDA Rural Development State Office, 3322 West End Avenue, Suite 300, Nashville, TN 37203-1084. (615) 783-1300.

Texas

USDA Rural Development State Office, Federal Building, Suite 102, 101 South Main Street, Temple, TX 76501. (254) 742-9700/TDD (254) 742-9712.

Utah

USDA Rural Development State Office, Wallace F. Bennett Federal Building, 125 South State Street, Room 4311, Salt Lake City, UT 84138. (801) 524-4320/TDD (801) 524-3309.

Vermont/New Hampshire

USDA Rural Development State Office, City Center, 3rd Floor, 89 Main Street, Montpelier, VT 05602. (802) 828-6000/TDD (802) 223-6365.

Virginia

USDA Rural Development State Office, Culpeper Building, Suite 238, 1606 Santa Rosa Road, Richmond, VA 23229-5014. (804) 287-1550/ TDD (804) 287-1753.

Washington

USDA Rural Development State Office, 1835 Black Lake Boulevard, SW., Suite B, Olympia, WA 98512-5715. (360) 704-7740.

West Virginia

USDA Rural Development State Office, Federal Building, 75 High Street, Room 320, Morgantown, WV 26505-7500. (304) 284-4860/TDD (304) 284-4836.

Wisconsin

USDA Rural Development State Office, 4949 Kirschling Court, Stevens Point, WI 54481. (715) 345-7600/TDD (715) 345-7614.

Wyoming

USDA Rural Development State Office, 100 East B Street, Federal Building, Room 1005, P.O. Box 11005, Casper, WY 82602-5006. (307) 261-6300/TDD (307) 233-6733.

SUPPLEMENTARY INFORMATION: The RBOG program is authorized under section 306 of the Consolidated Farm and Rural Development Act (CONACT) (7 U.S.C. 1926(a)(11)). The Rural Development State Offices administer the RBOG program on behalf of RBS at the State level. The primary objective of the program is to improve the economic conditions of rural areas. Assistance provided to rural areas under this program may include technical assistance for business development and economic development planning. A total of $990,000 of non-earmarked funds is available for the RBOG program for FY 2006. To ensure that a broad range of communities have the opportunity to benefit from the available funds, no grant will exceed $50,000, unless it is a multi-State project where funds may not exceed $150,000. Pursuant to the Consolidated Appropriations Act for 2006 (Public Law 108-447), a total of $990,000 has been earmarked for Native Americans and a total of $990,000 for Empowerment Zones, Enterprise Communities, and Rural Economic Area Partnerships. There is no project dollar amount limitation on applications for earmarked funds. Awards are made on a competitive basis using specific selection criteria contained in 7 CFR part 4284, subpart G. Information required to be in the application package are contained in 7 CFR part 4284, subpart G. The State Director may assign up to 15 discretionary points to an application, and the Agency Administrator may assign up to 20 additional discretionary points based on geographic distribution of funds, special importance for implementation of a strategic plan in partnership with other organizations, or extraordinary potential for success due to superior project plans or qualifications of the grantee. To ensure the equitable distribution of funds, two projects from each State that score the greatest number of points based on the selection criteria and discretionary points will be considered for funding. Applications will be tentatively scored by the State Offices and submitted to the National Office for final review and selection.

The National Office will review the scores based on the grant selection criteria and weights contained in 7 CFR part 4284, subpart G. All applicants will be notified by RBS of the Agency's decision on the awards.

In accordance with the Paperwork Reduction Act of 1995, the information collection requirement contained in this Notice is approved by the Office of Management and Budget (OMB) under OMB Control Number 0570-0024.

Nondiscrimination Statement

“The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (braille, large print, audiotape, etc.) should contact USDA's TARGET Center at (202) 720-2600 (voice and TDD).

To file a complaint of discrimination, write to USDA, Director, Office of Civil Rights, 1400 Independence Avenue, SW., Washington, DC 20250-9410 or call (800) 795-3272 (voice), or (202) 720-6382 (TDD). “USDA is an equal opportunity provider, employer, and lender.”

Dated: February 23, 2006.
Jackie J. Gleason,
Acting Administrator, Rural Business-Cooperative Service.

[FR Doc. E6-3762 Filed 3-14-06; 8:45 am]

BILLING CODE 3410-XY-P